DEPARTMENT OF COMMERCE

International Trade Administration

[A-570-506]

Porcelain-on-Steel Cooking Ware From the People's Republic of China: Final Results of Expedited Sunset Review of the Antidumping Duty Order

AGENCY: Enforcement and Compliance, International Trade Administration, Department of Commerce.

SUMMARY: On February 2, 2016, the Department of Commerce (the “Department”) initiated the fourth five-year (“sunset”) review of the antidumping duty order on porcelain-on-steel cooking ware (“POS cookware”) from the People's Republic of China (“PRC”) pursuant to section 751(c) of the Tariff Act of 1930, as amended (the “Act”).¹ On the basis of a notice of intent to participate and an adequate substantive response filed on behalf of the domestic interested parties, as well as a lack of response from respondent interested parties, the Department conducted an expedited sunset review of the antidumping duty order, pursuant to section 751(c)(3)(B) of the Act and 19 CFR 351.218(e)(1)(ii)(C)(2). As a result of this sunset review, the Department finds that revocation of the Order would likely lead to continuation or recurrence of dumping at the levels indicated in the “Final Results of Review” section of this notice.

¹ See Initiation of Five-Year (“Sunset”) Review, 80 FR 45945 (August 3, 2015) (“Initiation Notice”).

DATES: Effective Date: June 8, 2016.

FOR FURTHER INFORMATION CONTACT: Andrew Devine, Enforcement and Compliance, Office V, International Trade Administration, U.S. Department of Commerce, 14th Street and Constitution Avenue NW., Washington, DC 20230; telephone: (202) 482-0238.

SUPPLEMENTARY INFORMATION:

Background

On February 2, 2016, the Department initiated the fourth sunset review of the Order pursuant to section 751(c) of the Tariff Act of 1930, as amended (“Act”).² On February 16, 2016, the Department received a timely notice of intent to participate in the sunset review on behalf of Columbian Home Products LLC (formerly General Housewares Corporation) (“Columbian”), pursuant to 19 CFR 351.218(d)(1)(i).³ In accordance with 19 CFR 351.218(d)(1)(ii)(A), Columbian is an interested party under section 771(9)(C) of the Act as a producer of the domestic like product. On March 3, 2016, Columbian filed a substantive response in the sunset review within the 30-day deadline, as specified in 19 CFR 351.218(d)(3)(i).⁴ The Department did not receive a substantive response from any respondent interested party in the sunset review. On April 4, 2016, the Department made its adequacy determination in the sunset review finding that the Department did not receive a substantive response from any respondent interested party.⁵

² See Initiation of Five-Year (“Sunset”) Review, 80 FR 45945 (August 3, 2015) (“Sunset Initiation”).

³ See Letter to the Secretary from Columbian, “Five-Year Sunset Review of Antidumping Duty Order on Porcelain-On-Steel Cooking Ware From the People's Republic of China: Notice of Intent to Participate in Sunset Review,” (February 16, 2016).

⁴ See Letter to the Secretary from Columbian, “Five-Year (“Sunset”) Review Of Antidumping Duty Order On Porcelain-On-Steel Cooking Ware From The People's Republic Of China: Columbian's Response To Notice Of Initiation,” (March 3, 2016) (“Substantive Response”).

⁵ See Letter to the ITC from the Department, “Sunset Reviews Initiated on February 2, 2016,” (April 4, 2016); specifically, based on the lack of an adequate response in the sunset review from any respondent party, the Department is conducting an expedited (120-day) sunset review consistent with section 751(c)(3)(B) of the Act and 19 CFR 351.218(e)(1)(ii)(C)(2). See also Procedures for Conducting Five-year (“Sunset”) Reviews of Antidumping and Countervailing Duty Orders, 63 FR 13516, 13519 (March 20, 1998) (the Department normally will conduct an expedited sunset review where respondent interested parties provide an inadequate response).

Scope of the Order

The subject merchandise is porcelain-on-steel cooking ware, including tea kettles, which do not have self-contained electric heating elements. All of the foregoing are constructed of steel and are enameled or glazed with vitreous glasses. The merchandise is currently classifiable under the Harmonized Tariff Schedule (“HTSUS”) subheading 7323.94.00.⁶

⁶ See Porcelain-on-Steel Cooking Ware From the People's Republic of China: Final Results of Expedited Sunset Review of the Antidumping Duty Order, 76 FR 7534 (February 10, 2011).

Analysis of Comments Received

All issues raised in this review are addressed in the “Issues and Decision Memorandum for the Final Results of the Expedited Sunset Review of the Antidumping Duty Order on Porcelain-on-Steel Cooking Ware from the People's Republic of China” (“Issues and Decision Memorandum”) from Christian Marsh, Deputy Assistant Secretary, Antidumping and Countervailing Duty Operations, to Paul Piquado, Assistant Secretary for Enforcement and Compliance, dated concurrently with and hereby adopted by this notice. The issues discussed in the Issues and Decision Memorandum include the likelihood of continuation or recurrence of dumping and the magnitude of the margins likely to prevail if the Order were revoked. Parties may find a complete discussion of all issues raised in the review and the corresponding recommendations in this public memorandum which is on file electronically via Enforcement and Compliance's Antidumping and Countervailing Duty Centralized Electronic Services System (“ACCESS”). Access to ACCESS is available in the Central Records Unit room B8024 of the main Commerce building. In addition, a complete version of the Issues and Decision Memorandum can be accessed directly on the Web at http://trade.gov/enforcement. The signed Issues and Decision Memorandum and the electronic version of the Issues and Decision Memorandum are identical in content.

Final Results of Review

Pursuant to sections 752(c)(1) and (3) of the Act, we determine that revocation of the antidumping duty order on POS cookware from the PRC would likely lead to continuation or recurrence of dumping at weighted-average margins up to 66.65 percent.

Notice Regarding Administrative Protective Order (“APO”)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

This sunset review and notice are in accordance with sections 751(c), 752(c), and 777(i)(1) of the Act and 19 CFR 351.218.

Dated: June 1, 2016.
Paul Piquado,
Assistant Secretary for Enforcement and Compliance.

[FR Doc. 2016-13578 Filed 6-7-16; 8:45 am]

BILLING CODE 3510-DS-P